NUCLEAR REGULATORY COMMISSION

[Docket No. 50-443]

Seabrook Station, Unit No. 1; FPL Energy Seabrook, LLC; Notice of Withdrawal of Application for Amendment to Facility Operating License

The U.S. Nuclear Regulatory Commission (NRC or the Commission) has granted the request of FPL Energy Seabrook, LLC (FPLE or the licensee) to withdraw its March 28, 2005, application for an amendment to Facility Operating License No. NPF-86 for the Seabrook Station, Unit No. 1 (Seabrook), located in Rockingham County, New Hampshire.

The proposed amendment would have revised the Seabrook Technical Specification (TS) 3/4.9.13, “Spent Fuel Assembly Storage,” to reflect a revised criticality safety analysis. This analysis was intended to support a two-zone spent fuel pool (SFP) consisting of BORAFLEX® and BORAL® fuel assembly storage racks. Additionally, the proposed change would have created TS 3/4.9.15, “Spent Fuel Pool Boron Concentration,” to support the planned SFP changes.

The Commission had previously issued a Notice of Consideration of Issuance of Amendment published in the Federal Register on May 10, 2005 (70 FR 24653). However, by letter dated October 24, 2005, FPLE withdrew the proposed change.

For further details with respect to this action, see the application for amendment dated March 28, 2005, and the licensee's letter dated October 24, 2005, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR reference staff by telephone at 1-800-397-4209, or 301-415-4737 or by e-mail to pdr@nrc.gov.

Dated at Rockville, Maryland, this 9th day of November, 2005.
For the Nuclear Regulatory Commission.
G. Edward Miller,
Project Manager, Plant Licensing Branch I-2, Division of Operating Reactor Licensing, Office of Nuclear Reactor Regulation.

[FR Doc. E5-6454 Filed 11-22-05; 8:45 am]

BILLING CODE 7590-01-P